DEPARTMENT OF VETERANS AFFAIRS

[OMB Control No. 2900-0418]

Agency Information Collection Activity: Department of Veteran Affairs Acquisition Regulation (VAAR) Sections 809.504(d) and Clause 852.209-70

AGENCY: The Office of Management (OM), Department of Veterans Affairs.

ACTION: Notice.

SUMMARY: The Office of Management (OM), Department of Veterans Affairs (VA), is announcing an opportunity for public comment on the proposed collection of certain information by the agency. Under the Paperwork Reduction Act (PRA) of 1995, Federal agencies are required to publish notice in the Federal Register concerning each proposed collection of information, including each proposed extension of a currently approved collection, and allow 60 days for public comment in response to the notice.

DATES: Written comments and recommendations on the proposed collection of information should be received on or before September 25, 2017.

ADDRESSES: Submit written comments on the collection of information through Federal Docket Management System (FDMS) at www.Regulations.gov or to Ricky Clark, Office Of Acquisition and Logistics (003A2A), Department of Veterans Affairs, 810 Vermont Avenue NW., Washington, DC 20420 or email to Ricky.Clark@va.gov. Please refer to “OMB Control No. “2900-0418” in any correspondence. During the comment period, comments may be viewed online through FDMS.

FOR FURTHER INFORMATION CONTACT: Cynthia Harvey-Pryor at (202) 461-5870.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, OM invites comments on: (1) Whether the proposed collection of information is necessary for the proper performance of OM functions, including whether the information will have practical utility; (2) the accuracy of OM estimate of the burden of the proposed collection of information; (3) ways to enhance the quality, utility, and clarity of the information to be collected; and (4) ways to minimize the burden of the collection of information on respondents, including through the use of automated collection techniques or the use of other forms of information technology.

Authority: Under the PRA of 1995 (Pub. L. 104-13; 44 U.S.C. 3501-3521).

Title: Department Of Veteran Affairs Acquisition Regulation (VAAR) Sections 809.504(d) and Clause 852.209-70.

OMB Control Number: 2900-0418.

Type of Review: Extension of a currently approved collection.

Abstract: VAAR section 809.504(d) and Clause 852.209-70 requires VA to determine whether or not to award a contract to a firm that might involve or result in a conflict of interest. VA uses the information to determine whether additional contract terms and conditions are necessary to mitigate the conflict. An agency may not conduct or sponsor, and a person is not required to respond to a collection of information unless it displays a currently valid OMB control number.

Affected Public: Business or other for-profit and not-for-profit institutions.

Estimated Annual Burden:

a. VAAR section 809504(d) and VAAR clause 852.209-7—110 hours.

Estimated Average Burden per Respondent:

a. VAAR section 809.504(d) and VAAR clause 852.209-7—1 hour.

Frequency of Response: On occasion.

Estimated Number of Respondents: VAAR section 809.504(d) and VAAR clause 852.209-7—102.

By direction of the Secretary.
Cynthia Harvey-Pryor,
Department Clearance Officer, Enterprise Records Service, Office of Quality and Compliance, Department of Veterans Affairs.

[FR Doc. 2017-15698 Filed 7-25-17; 8:45 am]

BILLING CODE 8320-01-P